DEPARTMENT OF EDUCATION

[Docket No.: ED-2024-SCC-0094]

Agency Information Collection Activities; Submission to the Office of Management and Budget for Review and Approval; Comment Request; Education Stabilization Fund—Emergency Assistance for Non-Public Schools (EANS) Program Recipient Annual Reporting Data Collection Form

AGENCY: Office of Elementary and Secondary Education (OESE), Department of Education (ED).

ACTION: Notice.

SUMMARY: In accordance with the Paperwork Reduction Act (PRA) of 1995, the Department is proposing a revision of a currently approved information collection request (ICR).

DATES: Interested persons are invited to submit comments on or before October 30, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Britt Jung, (202) 453-6046.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Education Stabilization Fund—Emergency Assistance for Non-Public Schools (EANS) Program Recipient Annual Reporting Data Collection Form.

OMB Control Number: 1810-0765.

Type of Review: Revision of a currently approved ICR.

Respondents/Affected Public: State, Local, and Tribal Governments.

Total Estimated Number of Annual Responses: 52.

Total Estimated Number of Annual Burden Hours: 208.

Abstract: Under the Coronavirus Response and Relief Supplemental Appropriations Act, 2021 (CRRSA Act), Public Law 116-260 (December 27, 2020), Congress first authorized the Emergency Assistance to Non-Public Schools (EANS) program to provide emergency services or assistance to non-public schools in the wake of the Coronavirus Disease 2019 (COVID-19). The American Rescue Plan Act of 2021 (ARP Act), Public Law 117-2 (March 11, 2021), authorized a second round of funding (ARP EANS) to provide services or assistance to non-public schools.

This request seeks approval for a revision to the currently approved data collection for the established annual reporting requirements which align with the requirements of the EANS program and obtain information on how the program funds were used. This revision is being requested to make updates to the collection for the upcoming fiscal year and to remove two questions that are no longer relevant. The reported information will be reviewed by U.S. Department of Education (Department) employees to ensure that EANS funds are used in accordance with applicable requirements under the CRRSA Act and ARP Act and will be shared with the public to promote transparency regarding the allocation and use of funds.

Dated: September 25, 2024.
Kun Mullan,
PRA Coordinator, Strategic Collections and Clearance, Governance and Strategy Division, Office of Chief Data Officer, Office of Planning, Evaluation and Policy Development.

[FR Doc. 2024-22286 Filed 9-27-24; 8:45 am]

BILLING CODE 4000-01-P